DEPARTMENT OF HEALTH AND HUMAN SERVICES

National Institutes of Health

Agency Emergency Information Collection Clearance Request for Public Comment

AGENCY: National Institutes of Health, HHS.

ACTION: Notice.

SUMMARY: In compliance with the requirement of the Paperwork Reduction Act of 1995 to provide opportunity for public comment on proposed data collection projects, the National Institutes of Health (NIH) will publish periodic summaries of proposed projects to be submitted to the Office of Management and Budget (OMB) for review and approval.

DATES: Comments on the information collection request must be received on or before 10 days of this published notice.

ADDRESSES: When commenting, please reference the document identifier or OMB control number. To be assured consideration, comments and recommendations must be submitted within 10 days. You may send your comments electronically to http://www.regulations.gov. Follow the instructions for “Comment or Submission” or “More Search Options” to find the information collection document(s) that are accepting comments.

FOR FURTHER INFORMATION CONTACT: To obtain a copy of the data collection plans and instruments, submit comments in writing, or request more information on the proposed project, contact: Ms. Mikia P. Currie, Office of Policy for Extramural Research Administration, 6705 Rockledge Drive, 8th Floor Room 803, Bethesda, Maryland 20892, or call a non-toll-free number 301-435-0941 or Email your request, including your address to ProjectClearanceBranch@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Title of the Collection: NIH COVID-19 Vaccine Attestation Intake Form.

Type of Collection: Emergency.

OMB Number: 0925-NEW.

Abstract: The U.S. Office of Personnel Management (OPM) approved the U.S. Department of Health and Human Services' (HHS) request for a variation to a strict application of 5 CFR 339.205 under 5 CFR.1 to promote the efficiency of the Government. Under this variation, HHS may use the authority under 5 CFR 339.205 to mandate COVID-19 vaccinations authorized under Emergency Use Authorizations (EUA) for its patient-facing health care personnel, including its health care applicants and employees, who work in Indian Health Service (IHS) medical facilities, National Institutes of Health (NIH) clinical research facilities, or other HHS facilities that provide direct patient care or clinical research. In addition, the Safer Federal Workforce Task Force created by President Biden's Executive Order 13991 has instructed Federal Agencies to inquire about the COVID-19 vaccination status of federal employees and on-site contractors. The NIH now has a COVID-19 vaccination requirement for persons working in Building 10 on the Bethesda campus, those with patient contact, or probable patient contact. The proposed information collection will be used to ensure compliance with these requirements, generate the list of persons required to be tested on a routine basis, and will provide important information regarding safety frameworks, guidance, and procedures.

The purpose of the information collection is to promote the safety of the federal workplace consistent with the above-referenced authorities, the COVID-19 Workplace Safety: Agency Model Safety Principles established by the Safer Federal Workforce Task Force, and guidance from the Centers for Disease Control and Prevention (CDC) and the Occupational Safety and Health Administration (OSHA).

Estimated Annualized Burden Table
Type of collection | Number of respondents | Number responses per respondent | Average burden per response (in hours) | Total burden hours
NIH COVID-19 Vaccine Attestation intake form | 31,000 | 1 | 5/60 | 2,583
Total |  | 31,000 |  | 2,583

Dated: August 24, 2021.
Lawrence A. Tabak,
Principal Deputy Director, National Institutes of Health.

[FR Doc. 2021-18636 Filed 8-27-21; 8:45 am]

BILLING CODE 4140-01-P